DEPARTMENT OF ENERGY

Federal Energy Regulatory Commission

[Docket No. AD21-12-000]

Electrification and the Grid of the Future; Supplemental Notice of Technical Conference

As first announced in the Notice of Technical Conference issued in this proceeding on March 2, 2021, the Federal Energy Regulatory Commission (Commission) will convene a Commissioner-led technical conference in the above-referenced proceeding on Thursday, April 29, 2021, from 10:00 a.m. to 6:00 p.m. Eastern Time. The conference will be held electronically. Attached to this Supplemental Notice is an agenda for the technical conference, which includes the final conference program.

Discussions at the conference may involve issues raised in proceedings that are currently pending before the Commission. These proceedings include, but are not limited to:

Michigan Electric Transmission Company, LLC, Docket No. ER21-424;

Participation of Distributed Energy Resource Aggregations in Markets Operated by Regional Transmission Organizations and Independent System Operators, Docket No. RM18-9.

The conference will be open for the public to attend electronically. There is no fee for attendance. Registration for the conference is not required. Information on this technical conference, including a link to the webcast, will be posted on the conference's event page on the Commission's website, https://www.ferc.gov/news-events/events/technical-conference-discuss-electrification-and-grid-future-04292021, prior to the event.

The conference will be transcribed. Transcripts of the conference will be available for a fee from Ace-Federal Reporters, Inc., (202) 347-3700.

Commission conferences are accessible under section 508 of the Rehabilitation Act of 1973. For accessibility accommodations, please send an email to accessibility@ferc.gov, call toll free (866) 208-3372 (voice) or (202) 208-8659 (TTY), or send a fax to (202) 208-2106 with the required accommodations.

For more information about this technical conference, please contact:

Michael Hill (Technical Information), Office of Energy Policy and Innovation, (202) 502-8703, Michael.Hill@ferc.gov

Sarah Greenberg (Legal Information), Office of General Counsel, (202) 502-6230, Sarah.Greenberg@ferc.gov

Sarah McKinley (Logistical Information), Office of External Affairs, (202) 502-8004, Sarah.Mckinley@ferc.gov

Dated: April 14, 2021.
Kimberly D. Bose,
Secretary.

[FR Doc. 2021-08128 Filed 4-20-21; 8:45 am]

BILLING CODE 6717-01-P